DEPARTMENT OF THE INTERIOR

Bureau of Land Management

[NV-930-1430-ET; NVN 35951; 5-08807]

Public Land Order No. 7630; Extension of Public Land Order No. 6591; Nevada

AGENCY: Bureau of Land Management, Interior.

ACTION: Public Land Order.

SUMMARY: This order extends Public Land Order No. 6591, Parcel “B,” for an additional 20-year period. This extension is necessary to continue the protection of a communication site and support facilities used for the safe and secure operation of national defense activities on the Nevada Test and Training Range.

EFFECTIVE DATE: April 12, 2005.

FOR FURTHER INFORMATION CONTACT: Dennis Samuelson, BLM Nevada State Office, 1340 Financial Boulevard, Post Office Box 12000, Reno, Nevada 89520-0006, 775-861-6532.

SUPPLEMENTARY INFORMATION: The withdrawal for the remaining land described in Public Land Order No. 6591 as Parcel “A” is not included under this extension order.

Order

By virtue of the authority vested in the Secretary of the Interior by section 204 of the Federal Land Policy and Management Act of 1976, 43 U.S.C. 1714 (2000), it is ordered as follows:

1. Public Land Order No. 6591, Parcel “B,” (50 FR 10965-10966, March 19, 1985), which withdrew 200 acres of public land from surface entry and mining, but not the mineral leasing laws, for use by the United States Air Force to protect a communication site and support facilities, is hereby extended for an additional 20-year period.

2. Public Land Order No. 6591, Parcel “B,” will expire on April 11, 2025, unless, as a result of a review conducted prior to the expiration date pursuant to section 204(f) of the Federal Land Policy and Management Act of 1976, 43 U.S.C. 1714(f) (2000), the Secretary determines that the withdrawal shall be extended.

Dated: March 23, 2005.
Rebecca W. Watson,
Assistant Secretary—Land and Minerals Management.

[FR Doc. 05-7119 Filed 4-8-05; 8:45 am]

BILLING CODE 4310-HC-P